ENVIRONMENTAL PROTECTION AGENCY

40 CFR Part 52

[EPA-R01-OAR-2014-0291, FRL-9949-58-Region 1]

Air Plan Approval; Maine: Prevention of Significant Deterioration; PM2.5

AGENCY: Environmental Protection Agency.

ACTION: Direct final rule.

SUMMARY: The Environmental Protection Agency (EPA) is taking direct final action to fully approve revisions to the State of Maine's State Implementation Plan (SIP) relating to the regulation of fine particulate matter (that is, particles with an aerodynamic diameter less than or equal to a nominal 2.5 micrometer, generally referred to as “PM2.5”) within the context of Maine's Prevention of Significant Deterioration (PSD) program. EPA is also taking direct final action on other minor changes to Maine's PSD program. Actions related to this direct final rulemaking are being taken in accordance with the Clean Air Act (CAA).

DATES: This direct final rule is effective September 30, 2016, unless EPA receives adverse comments by August 31, 2016. If adverse comments are received, EPA will publish a timely withdrawal of the direct final rule in the Federal Register informing the public that the rule will not take effect.

ADDRESSES: Submit your comments, identified by Docket ID No. EPA-R01-OAR-2014-0291 at http://www.regulations.gov, or via email to bird.patrick@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Patrick Bird, U.S. Environmental Protection Agency, EPA New England Regional Office, Office of Ecosystem Protection, Air Permits, Toxics, and Indoor Programs Unit, 5 Post Office Square—Suite 100, (mail code OEP05-2), Boston, MA 02109-3912; telephone number: (617) 918-1287; email address: bird.patrick@epa.gov.

SUPPLEMENTARY INFORMATION:

Throughout this document whenever “we,” “us,” or “our” is used, we mean EPA.

Organization of this document. The following outline is provided to aid in locating information in this preamble.

I. Background and Purpose

II. Analysis of Maine's SIP Revisions

III. Description of Codification Issues in Maine's SIP

IV. Final Action

V. Incorporation by Reference

VI. Statutory and Executive Order Reviews

I. Background and Purpose

The State of Maine PSD program is established in 06-096 Code of Maine Regulations (CMR), Chapter 100 (Definitions Regulation), Chapter 113 (Growth Offset Regulation), and Chapter 115 (Major and Minor Source Air Emission License Regulations). Maine implements its PSD program requirements under Chapter 115. Revisions to the PSD program were last approved into the Maine SIP on February 14, 1996 (61 FR 5690). Maine has authority to issue and enforce PSD permits under its SIP-approved PSD program.

On February 14, 2013, the State of Maine Department of Environmental Protection (DEP) submitted a formal revision to its SIP. The SIP revision included the amendments to certain portions of Chapter 100 and Chapter 115 to incorporate PM2.5 into the PSD permitting program. On May 31, 2016, Maine DEP submitted additional revisions to its PSD program for SIP approval, which includes minor changes to: (1) The Chapter 100 definition of “ambient increment;” (2) a portion of the Chapter 100 definition of “regulated pollutant;” and (3) the Chapter 100 definition of “significant emissions increase.” Pursuant to section 110 of the CAA, EPA is approving these revisions into the Maine SIP.

II. Analysis of Maine's SIP Revisions

EPA performed a review of Maine's proposed revisions and has determined that they are consistent with EPA's PSD program regulations. Maine submitted for approval amendments to the definition of “ambient increment” at Chapter 100.11, amendments to the definition of “baseline concentration” at Chapter 100.16, a new definition for “PM2.5” at Chapter 100.133, amendments to the definition of “PM10” at Chapter 100.134, amendments to a portion of the definition of “regulated pollutant” at Chapter 100.149(I); and amendments to the definition of “significant emissions increase” at Chapter 100.156. Maine also submitted amendments to the section of Chapter 115 related to “innovative control technology waivers” and also added a section to Chapter 115 relating to major new and modified source growth analyses.

The previously SIP-approved definition of “ambient increment” has been amended to include PM2.5 as a pollutant of consideration and to add specificity related to the time period that must be considered when determining existing source baseline emissions for PM2.5, PM10, sulfur dioxide (SO2), and nitrogen dioxide (NO2). These changes are relevant to conducting an increment consumption analysis under the State's PSD permit program.

Maine's approach in determining baseline emissions for purposes of an increment consumption analysis remains unchanged when compared to the previously approved provisions in Maine's SIP. The SIP revisions we are approving in this document adds PM2.5 as an additional pollutant to consider when conducting an increment analysis, and clarifies in the definition of “ambient increment,” the emissions baseline years used in the analyses for each covered pollutant. Although Maine's approach to establishing a baseline emissions concentration as part of an increment consumption analysis differs to some extent from the approach taken under the federal PSD regulations codified at 40 CFR 51.166, EPA has determined that those minor differences do not result in a different baseline emissions concentration calculation and Maine's approach is therefore functionally equivalent to the federal PSD regulations. For example, Maine's regulation identifies a specific year, e.g., 2010 for PM2.5, to be used to calculate baseline emissions concentrations for an increment consumption analysis. Although the approach taken under the federal PSD regulations would result in the use of a slightly different time period for calculating baseline emissions, EPA has analyzed the relevant permitting transactions using Maine's time period and the federal PSD regulations' time period and concluded that the calculation yields the same result in each case. Thus, the baseline emissions calculation for PM2.5 under Maine's regulation yields the same result calculated under the federal PSD regulations.

The definition of “baseline concentration” at Chapter 100.16 has been amended to include a reference to PM2.5 as a pollutant of consideration. The definition has also been revised in terms of formatting when compared to the previously SIP-approved definition. The PM2.5 baseline concentration date is October 20, 2010, meaning the actual emissions representative of sources in existence on that date shall be included in determining the ambient baseline concentration for purposes of an increment determination. Emissions increases and decreases after the baseline concentration date shall impact available increment in the baseline concentration area. In a note to the definition of “baseline concentration,” Maine states the baseline area is considered to be the entire State of Maine, which is consistent with how Maine's PSD program has functioned in previous EPA SIP-approved versions.

Maine's SIP revision also adds a definition of “PM2.5” at Chapter 100.133. The definition is consistent with EPA's treatment of PM2.5 in the definition of “Regulated NSR Pollutant” at 40 CFR 51.166(b)(49)(i)(a), with one exception. EPA's definition of “regulated air pollutant” states, among other things, that “PM2.5 and PM10 emissions shall include gaseous emissions from a source or activity which condense to form particulate matter at ambient temperatures.” EPA's definition also states that “[o]n or after January 1, 2011, such condensable particulate matter shall be accounted for in applicability determinations and in establishing emissions limitations for PM2.5 and PM10 in PSD permits.” Maine's definition of PM2.5 became effective as state law on December 1, 2012, and therefore does not include EPA's January 1, 2011 date. Maine DEP has confirmed in a communication with EPA Region 1 that Maine's definition requires consideration of condensable particulate matter as of the effective date of the State's regulation (there is no explicit date at all included in Maine's definition). EPA believes this is a reasonable approach. Maine's definition of PM2.5 also includes clarification as to how PM2.5 is to be measured and designated, by cross referencing 40 CFR part 50, appendix L (Reference Method for the Determination of Fine Particulate Matter as PM2.5 in the Atmosphere) and 40 CFR part 53 (Ambient Air Monitoring Reference And Equivalent Methods). We are approving Maine's definition of PM2.5.

Revisions to the Maine SIP also includes an amendment to the definition of “PM10” at Chapter 100.134. As with Maine's definition of PM2.5, Maine's definition of PM10 is consistent with EPA's treatment of PM2.5 in the definition of “Regulated NSR Pollutant” at 40 CFR 51.166(b)(49)(i)(a), with the one exception regarding the date after which condensable particulate matter must be considered for purposes of PSD permitting. Again, EPA believes that Maine's approach is a reasonable one. Similar to the State's definition of “PM2.5,” Maine's definition of PM10 includes clarification as to how PM10 is to be measured and designated, by cross referencing 40 CFR part 50, appendix J (Reference Method for the Determination of Fine Particulate Matter as PM10 in the Atmosphere) and 40 CFR part 53 (Ambient Air Monitoring Reference And Equivalent Methods). We are approving Maine's definition of PM10.

A portion of the definition of “regulated pollutant” at Chapter 100.149(I) is being amended to clarify what precursor pollutants are to be regulated under Maine's PSD permitting program. Maine's treatment of SO2 and NOX as precursors to PM2.5 and volatile organic compounds and NOX as precursors to ozone is consistent with EPA's treatment of these respective precursors for purposes of PSD permitting as found in the federal definition of “Regulated NSR Pollutant” at 40 CFR 51.166(b)(49)(i)(b).

The definition of “significant emissions increase” at Chapter 100.156 is being revised to include significant emissions increase rates for PM2.5 and precursors to PM2.5 (NOX and SO2). This revision to Maine's SIP is consistent with the federal definitions of “Significant” at 40 CFR 51.166(b)(23)(i) and “Significant emissions increase” at 40 CFR 51.166(b)(39).

Chapter 115 has been amended to include revised text to the State's “Innovative control technology waiver” provision at Chapter 115(4)(A)(4)(f)(i)(d)(iii). The innovative control technology provision of EPA's PSD program is an optional element found at 40 CFR 51.166(s) and allows for an owner or operator to request approval for a system of innovative pollution control. Maine's amendment adds a provision which states that PM10, PM2.5, SO2, or NO2 emissions may not significantly impact any nonattainment areas during the time period the new or modified source is reducing continuous emissions to a rate greater than or equal to the rate that would have been required by virtue of a best available control technology (BACT) determination. We are approving this amendment to Maine's “Innovative control technology waiver” provision because it is consistent with the intent of EPA's PSD regulations.

Maine has requested an additional provision to be approved into the SIP at Chapter 115(4)(A)(4)(h), entitled “Growth Analysis.” The Maine provision requires a permit applicant to provide an analysis of air quality impacts from all general, commercial, residential, industrial, and other growth in areas affected by a major modification or a major new source. This provision aligns with EPA's regulations at 40 CFR 51.166(n)(3)(ii) and (o)(2). In conjunction with Maine's definition of “ambient increment” at Chapter 100.11, “baseline concentration” at Chapter 100.16, and Maine's air quality impact analyses requirements contained in Chapter 115, Maine's additional provision satisfies requirements to conduct an ambient increment determination, as specified in EPA's regulation at 40 CFR 51.166(k)(1)(ii). We are approving this provision into Maine's SIP.

III. Description of Codification Issues in Maine's SIP

The State of Maine regulations found within 06-096 CMR Chapters 100 and 115 have been amended numerous times under state law since they were originally approved into the SIP. Not all of these state law amendments were submitted to EPA as formal SIP revisions. These “state-only” amendments resulted in new text being added, existing text being rearranged, and, in some cases, changes to how Maine regulations are codified. Due to such “state-only” amendments to Chapters 100 and 115, there are instances where the state regulation being submitted for approval into the SIP at this time does not mesh precisely within the existing codification structure of the Maine SIP. As a matter of substantive legal requirements, however, the regulations approved into the Maine SIP, including those we are approving today, are harmonious and clear.

Below, we describe exactly how each definition and provision we are approving into Maine's SIP through this document will be incorporated into the SIP. In certain instances, the amendments to the SIP are straightforward and need no detailed explanation. In other instances, however, we explain below for purposes of clarity how the amendments mesh with the existing SIP's structure and codification.

In the existing Maine SIP, the definition of “ambient increment” is codified at Chapter 100.11. The revised definition of “ambient increment” being acted on in this document is also codified at Chapter 100.11. The revised definition will supplant the existing definition at Chapter 100.11.

In the existing Maine SIP, the citations for “baseline concentration,” “PM10,” and “significant emissions increase” do not coincide with the citations of those terms being approved in this document. The existing citation for “baseline concentration” is “Chapter 100.15;” the existing citation for “PM10” is “Chapter 100.122” and; the existing citation for “significant emissions increase” is “Chapter 100.144.” The action we are taking in this document will involve removing the text of the former definitions of “baseline concentration,” “PM10,” and “significant emissions increase” from Chapter 100.15, 100.122, and Chapter 100.144, respectively, and indicate those removals by using the term “reserved” in those locations of the Maine SIP.

The revised definitions of “baseline concentration,” “PM10,” and “significant emissions increase” that we are approving in this document will be codified in the Maine SIP as Chapter 100.16, Chapter 100.134, and Chapter 100. 156, respectively, in the same manner that they are codified under current state regulation. This change, however, results in two different terms (with correspondingly different definitions), each of which has an identical codification.

Specifically, “Chapter 100.16” will now be the correct citation for two different terms, as follows. Prior to our approval in this document of Maine's revise definition of “baseline concentration,” Chapter 100.16 was the SIP citation for the term “Begin actual construction.” After our approval in this document of Maine's revise definition of “baseline concentration,” Chapter 100.16 will be the correct SIP citation for two separate terms and their definitions: (1) “Begin actual construction”; and (2) “Baseline concentration.” EPA believes that implementation of the State's permitting program and the enforceability of these terms as part of that program will not be compromised because the content of the two definitions clearly is different and will have been approved by EPA on separate dates. Thus, in future legal proceedings, a complete and accurate citation to one of these two definitions should also include the date upon which EPA approved the definition in question into Maine's SIP in order to distinguish clearly one from the other. This result was necessary because Maine did not submit its entire revised Chapter 100 to EPA for approval into the SIP.

The revised definition of “PM10” that we are approving in this document will be codified in the Maine SIP as Chapter 100.134. Chapter 100.134 will now be the correct citation for two different terms, as follows. Prior to our approval in this document of Maine's revise definition of “PM10,” Chapter 100.134 was the SIP citation for the term “Recovery boiler.” After our approval in this document of Maine's definition of “PM10,” Chapter 100.134 will be the correct SIP citation for two separate terms and their definitions: (1) “PM10”; and (2) “Recovery Boiler.” EPA believes that implementation of the State's permitting program and the enforceability of these terms as part of that program will not be compromised because the content of the two definitions clearly is different and will have been approved by EPA on separate dates. Thus, a complete and accurate citation in a future legal proceeding to one of these two definitions should also include the date upon which EPA approved the specific definition in question into Maine's SIP in order to distinguish clearly one from the other. This result was necessary because Maine did not submit its entire revised Chapter 100 to EPA for approval into the SIP.

The revised definition of “significant emissions increase” that we are approving in this document will be codified in the Maine SIP as Chapter 100.156. Chapter 100.156 will now be the correct citation for two different terms, as follows. Prior to our approval in this document of Maine's revise definition of “Significant emissions increase,” Chapter 100.156 was the SIP citation for the term “Title I Modification.” After our approval in this document of Maine's definition of “Significant emissions increase,” Chapter 100.156 will be the correct SIP citation for two separate terms and their definitions: (1) “Significant emissions increase”; and (2) “Title I Modification.” EPA believes that implementation of the State's permitting program and the enforceability of these terms as part of that program will not be compromised because the content of the two definitions clearly is different and will have been approved by EPA on separate dates. Thus, a complete and accurate citation in a future legal proceeding to one of these two definitions should also include the date upon which EPA approved the specific definition in question into Maine's SIP in order to distinguish clearly one from the other. This result was necessary because Maine did not submit its entire revised Chapter 100 to EPA for approval into the SIP.

The new definition of “PM2.5” that we are approving through this document will be codified in the Maine SIP as Chapter 100.133. Chapter 100.133 will now be the correct citation for two different terms, as follows. Prior to our approval through this document of Maine's definition of “PM2.5” Chapter 100.133 was the SIP citation for the term “Reconstruction or reconstructed.” After our approval through this document of Maine's definition of “PM2.5” Chapter 100.133 will be the correct SIP citation for two separate terms and their definitions: (1) “PM2.5”; and (2) “Reconstruction or reconstructed.” EPA believes that implementation of the State's permitting program and the enforceability of these terms as part of that program will not be compromised because the content of the two definitions clearly is different and will have been approved by EPA on separate dates. Thus, a complete and accurate citation in a future legal proceeding to one of these two definitions should also include the date upon which EPA approved the specific definition in question into Maine's SIP in order to distinguish clearly one from the other. This result was necessary because Maine did not submit its entire revised Chapter 100 to EPA for approval into the SIP.

With respect to our approval of a paragraph (I) of the definition of “Regulated pollutant” (codified at Chapter 100.149 in the current Maine regulation), we recognize the definition of “Regulated pollutant” already exists in the SIP-approved version of Chapter 100 (codified at Chapter 100.137). The existing SIP-approved definition does not contain the required precursor language for PM2.5 and ozone, and thus EPA will add paragraph (I) from the current Maine definition of “Regulated pollutant” to the SIP version of “Regulated pollutant” at Chapter 100.137. After our approval through this document of Maine's definition of “Regulated pollutant,” Chapter 100.137(I) will be the correct SIP citation for two separate provisions within the same definition. EPA believes that implementation of the State's permitting program and the enforceability of these terms as part of that program will not be compromised because the content of the two provisions clearly is different and will have been approved by EPA on separate dates. Thus, a complete and accurate citation in a future legal proceeding to one of these two provisions should also include the date upon which EPA approved the specific provision in question into Maine's SIP in order to distinguish clearly one from the other. This result was necessary because Maine did not submit its entire revised Chapter 100 to EPA for approval into the SIP.

In this SIP action we are also approving an amendment to the State's “Innovative control technology waiver” provision at Chapter 115(4)(A)(4)(f)(i)(d)(iii). We are also approving a new provision entitled “Growth Analysis” at Chapter 115(4)(A)(4)(h). We provide below, an explanation relating to the fact that Maine's Chapter 115 has been restructured in terms of its codification scheme since EPA's last SIP approval action on the chapter. Due to this restructuring, the way in which Maine references provisions in its February 14, 2013 submittal (consistent with the codification scheme contained in current state regulations) is different than how the Maine SIP is structured in terms of its codification scheme.

Chapter 115(4)(A)(4)(f)(i)(d)(iii) (the State's current codification) expands on a list of existing conditions earlier approved by EPA into Maine's SIP concerning prohibitions applicable to an innovative control technology waiver. The provision being approved in this document will be inserted in the Maine SIP by adding the new condition in its appropriate place within the existing regulation earlier approved into the SIP. This will be the case despite the fact that its codification does not align neatly with the codification scheme previously approved for the innovative control technology waiver. Specifically, Chapter 115(4)(A)(4)(f)(i)(d)(iii) will be placed between the Maine SIP's provisions codified at Chapter 115(VI)(B)(1)(b)(iv)(b) and Chapter 115(VI)(B)(1)(b)(iv)(c). This result was necessary because Maine did not submit its entire revised Chapter 115 to EPA for approval into the SIP. EPA believes the difference in codification does not affect the enforceability of this provision and that, as a substantive legal requirement, the new provision meshes as it should with the existing substantive requirements.

In this SIP action we are also approving a revised provision entitled “Growth Analysis,” which is currently codified under state regulation as Chapter 115(4)(A)(4)(h). The provision concerns air quality impact information an applicant must supply to Maine DEP as part of a PSD permit application. This provision is an amendment to an existing provision previously approved into the Maine SIP and codified as Chapter 115(III)(B)(5). Maine DEP and EPA communicated on how best to codify the new provision entitled “Growth Analysis” at Chapter 115(4)(A)(4)(h). Maine DEP concurred with EPA's assessment that the new provision replaces the older provision, which was previously approved into the Maine SIP. In this action, the new provision will supplant the older provision, and the Maine SIP will reflect the updated language by marking Chapter 115(III)(B)(5) as “reserved” and adding the provision entitled “Growth Analysis” at Chapter 115(4)(A)(4)(h) immediately after Chapter 115(III)(B)(5) in the Maine SIP. This result is necessary because Maine did not submit its entire revised Chapter 115 to EPA for approval into the SIP. EPA believes the difference in codification does not affect the enforceability of this provision and that, as a substantive legal requirement, the new provision meshes as it should with the existing substantive requirements.

IV. Final Action

Pursuant to section 110 of the CAA, EPA is approving the provisions described above in this document as submitted in Maine's February 14, 2013 submission to EPA. The EPA is publishing this action without prior proposal because the Agency views this as a noncontroversial amendment and anticipates no adverse comments. However, in the proposed rules section of this Federal Register publication, EPA is publishing a separate document that will serve as the proposal to approve the SIP revisions should relevant adverse comments be filed. This rule will be effective September 30, 2016 without further notice unless the Agency receives relevant adverse comments by August 31, 2016.

If the EPA receives such comments, then EPA will publish a document withdrawing this final rule and informing the public that the rule will not take effect. All public comments received will then be addressed in a subsequent final rule based on the proposed rule. The EPA will not institute a second comment period on the proposed rule. All parties interested in commenting on the proposed rule should do so at this time. If no such comments are received, the public is advised that this rule will be effective on September 30, 2016 and no further action will be taken on the proposed rule. Please note that if EPA receives adverse comment on an amendment, paragraph, or section of this rule and if that provision may be severed from the remainder of the rule, EPA may adopt as final those provisions of the rule that are not the subject of an adverse comment.

V. Incorporation by Reference

In this rulemaking action, the EPA is finalizing regulatory text that includes incorporation by reference. In accordance with requirements of 1 CFR 51.5, EPA is finalizing the incorporation by reference state provisions as described above into the Maine SIP. EPA has made, and will continue to make, these documents generally available electronically through www.regulations.gov and/or may be viewed at the appropriate EPA office (see the ADDRESSES section of this preamble for more information).

VI. Statutory and Executive Order Reviews

Under the CAA, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen dioxide, Ozone, Particulate matter, Reporting and recordkeeping requirements, Sulfur oxides, Volatile organic compounds.

Authority: 42 U.S.C. 7401 et seq.

Dated: July 5, 2016.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart U—Maine

2. Amend § 52.1020 in the table in paragraph (c) by revising the entries for “Chapter 100” and “Chapter 115” to read as follows:

§ 52.1020 Identification of plan.

* * * * *

(c) * * *

EPA-Approved Maine Regulations
State citation | Title/subject | State effective date | EPA approval date EPA approval date and citation ¹ | Explanations
* * * * * * *
Chapter 100 | Definitions | May 22, 2016 | August 1, 2016 [Insert Federal Register citation]
* * * * * * *
Chapter 115 | Emission License Regulation | November 6, 2012 | August 1, 2016 [Insert Federal Register citation]
* * * * * * *
¹ In order to determine the EPA effective date for a specific provision listed in this table, consult the Federal Register notice cited in this column for the particular provision.

* * * * *

[FR Doc. 2016-17830 Filed 7-29-16; 8:45 am]

BILLING CODE 6560-50-P